DEPARTMENT OF THE INTERIOR

Bureau of Land Management

[LLMT922200-14-L13100000-FI0000-P; NDM 94466]

Notice of Proposed Reinstatement of Terminated Oil and Gas Lease: North Dakota

AGENCY: Bureau of Land Management, Interior.

ACTION: Notice.

SUMMARY: Per the Mineral Leasing Act of 1920, Bakken Hunter LLC, Baytex Energy USA Ltd. and Williston Hunter Inc. timely filed a petition for reinstatement of competitive oil and gas lease NDM 94466, Divide County, North Dakota. The lessees paid the required rentals accruing from the date of termination.

No leases were issued that affect these lands.

FOR FURTHER INFORMATION CONTACT: Mary A. Mack, Acting Chief, Fluids Adjudication Section, Bureau of Land Management Montana State Office, 5001 Southgate Drive, Billings, Montana 59101-4669, 406-896-5090, mmack@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessees agree to new lease terms for rentals and royalties of $10 per acre, or fraction thereof, per year, and 16⅔ percent, respectively. The lessees agree to additional or amended stipulations. The lessees paid the $500 administration fee for the reinstatement of the lease and $159 cost for publishing this Notice.

The lessee met the requirements for reinstatement of the lease per Section 31 (d) and (e) of the Mineral Leasing Act of 1920. We are proposing to reinstate the lease, effective the date of termination subject to the:

• Original terms and conditions of the lease;

• Additional and amended stipulations;

• Increased rental of $10 per acre;

• Increased royalty of 16⅔ percent; and

• $159 cost of publishing this Notice.

Mary A. Mack,
Acting Chief, Fluids Adjudication Section.

[FR Doc. 2014-19733 Filed 8-19-14; 8:45 am]

BILLING CODE 4310-DN-P